DEPARTMENT OF HEALTH AND HUMAN SERVICES

Health Resources and Services Administration

Correction to Establishment and Solicitation of Nominations for Tribal Advisory Council

AGENCY: Health Resources and Services Administration (HRSA), HHS.

ACTION: Notice; correction.

SUMMARY: HRSA is soliciting comments and recommendations regarding HRSA's intent to establish the HRSA Tribal Advisory Council (TAC) and is seeking nominations of qualified tribal officials as candidates for consideration for appointment as voluntary delegate members of the HRSA TAC. Due to delays caused by the global impact of the Coronavirus Disease 2019 (COVID-19), HRSA is extending the deadline for the submissions of nominations of qualified tribal officials for consideration for appointment as voluntary delegate members of the HRSA TAC. Nominations for membership must now be received on or before July 6, 2020. This 60-day extension will allow tribes and tribal serving organizations the additional time needed to identify qualified tribal officials as candidates and submit comprehensive nomination packages.

FOR FURTHER INFORMATION CONTACT: CAPT Elijah K. Martin, Jr. EdD, MPH, Manager, Tribal Health Affairs, Office of Health Equity, HRSA, 5600 Fishers Lane, Room 13N44, Rockville, Maryland 20857, 301-443-7526, aianhealth@hrsa.gov.

Correction—Due to COVID-19, HRSA OHE is extending the deadline for HRSA TAC membership nominations by 60 days from May 7, 2020, to July 6, 2020.

Maria G. Button,
Director, Executive Secretariat.

[FR Doc. 2020-09229 Filed 4-29-20; 8:45 am]

BILLING CODE 4165-15-P